DEPARTMENT OF HOMELAND SECURITY

Federal Emergency Management Agency

[Docket ID FEMA-2015-0001]

Changes in Flood Hazard Determinations

AGENCY: Federal Emergency Management Agency, DHS.

ACTION: Final Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: The effective date for each LOMR is indicated in the table below.

ADDRESSES: Each LOMR is available for inspection at both the respective Community Map Repository address listed in the table below and online through the FEMA Map Service Center at www.msc.fema.gov.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP and also are used to calculate the appropriate flood insurance premium rates for new buildings, and for the contents in those buildings. The changes in flood hazard determinations are in accordance with 44 CFR 65.4.

Interested lessees and owners of real property are encouraged to review the final flood hazard information available at the address cited below for each community or online through the FEMA Map Service Center at www.msc.fema.gov.

(Catalog of Federal Domestic Assistance No. 97.022, “Flood Insurance.”)

Dated: October 8, 2015.
Roy E. Wright,
Deputy Associate Administrator for Insurance and Mitigation, Department of Homeland Security, Federal Emergency Management Agency.

State and county | Location and case No. | Chief executive officer of community | Community map repository | Effective date of modification | Community No.
Arkansas:
Drew (FEMA Docket No.: B-1516) | City of Monticello (14-06-3181P) | The Honorable Zackery Tucker, Mayor, City of Monticello, P.O. Box 505, Monticello, AR 71657 | City Hall, 203 West Gaines Street, Monticello, AR 71655 | Aug. 13, 2015 | 050074
Drew (FEMA Docket No.: B-1516) | Unincorporated areas of Drew County (14-06-3181P) | The Honorable Robert Akin, Drew County Judge, 210 South Main Street, Monticello, AR 71655 | Drew County Courthouse, 210 South Main Street, Monticello, AR 71655 | Aug. 13, 2015 | 050430
Arizona:
Pima (FEMA Docket No.: B-1526) | Town of Marana (14-09-3997P) | The Honorable Gilbert Davidson, Manager, Town of Marana, 11555 West Civic Center Drive, Marana, AZ 85653 | Town Hall, 11555 West Civic Center Drive, Marana, AZ 85653 | Aug. 24, 2015 | 040118
Pima (FEMA Docket No.: B-1526) | Unincorporated areas of Pima County (14-09-3997P) | The Honorable Sharon Bronson, Chair, Pima County Board of Supervisors, 130 West Congress Street, 11th Floor, Tucson, AZ 85701 | Pima County Flood Control District, 97 East Congress Street, 3rd Floor, Tucson, AZ 85701 | Aug. 24, 2015 | 040073
Colorado:
Eagle (FEMA Docket No.: B-1514) | Unincorporated areas of Eagle County (14-08-1086P) | The Honorable Kathy Chandler-Henry, Chair, Eagle County Board of Commissioners, P.O. Box 850, Eagle, CO 81631 | Eagle County Building and Engineering Department, 500 Broadway Street, Eagle, CO 81631 | Aug. 7, 2015 | 080051
Fremont (FEMA Docket No.: B-1514) | City of Canon City (14-08-0930P) | The Honorable Tony Greer, Mayor, City of Canon City, 901 Main Street, Canon City, CO 81212 | City Hall, 128 Main Street, Canon City, CO 81212 | Aug. 3, 2015 | 080068
Fremont (FEMA Docket No.: B-1514) | Unincorporated areas of Fremont County (14-08-0930P) | The Honorable Ed Norden, Chairman, Fremont County Board of Commissioners, 615 Macon Avenue, Room 105, Canon City, CO 81212 | Fremont County Administrator, 615 Macon Avenue, Canon City, CO 81212 | Aug. 3, 2015 | 080067
Florida:
Bay (FEMA Docket No.: B-1522) | Unincorporated areas of Bay County (15-04-1287P) | The Honorable Robert Majka, Jr., Bay County Manager, 840 West 11th Street, Panama City, FL 32401 | Bay County Government Offices, 707 Jenks Avenue, Suite B, Panama City, FL 32401 | Aug. 24, 2015 | 120004
Charlotte (FEMA Docket No.: B-1522) | Unincorporated areas of Charlotte County (15-04-3689P) | The Honorable Bill Truex, Chairman, Charlotte County Board of Commissioners, 18500 Murdock Circle, Port Charlotte, FL 33948 | Charlotte County Community Development Department, 18500 Murdock Circle, Port Charlotte, FL 33948 | Aug. 24, 2015 | 120061
Collier (FEMA Docket No.: B-1522) | City of Naples (15-04-4054P) | The Honorable John Sorrey, III, 735 8th Street South, Naples, FL 34102 | City Hall, 735 8th Street South, Naples, FL 34102 | Aug. 24, 2015 | 125130
Lee (FEMA Docket No.: B-1522) | Unincorporated areas of Lee County (14-04-5866P) | The Honorable Brian Hamman, Chairman, Lee County Board of Commissioners, P.O. Box 398, Fort Myers, FL 33902 | Lee County Community Development Department, 1500 Monroe Street,, 2nd Floor, Fort Myers, FL 33901 | Aug. 20, 2015 | 125124
Lee (FEMA Docket No.: B-1514) | Unincorporated areas of Lee County (15-04-2532P) | The Honorable Brian Hamman, Chairman, Lee County Board of Commissioners, P.O. Box 398, Fort Myers, FL 33902 | Lee County Community Development Department, 1500 Monroe Street,, 2nd Floor, Fort Myers, FL 33901 | Jul. 31, 2015 | 125124
Manatee (FEMA Docket No.: B-1526) | Unincorporated areas of Manatee County (14-04-A642P) | The Honorable Betsy Benac, Chair, Manatee County Board of Comminssioners, P.O. Box 1000, Bradenton, FL 34206 | Manatee County Building and Development Services Department, 1112 Mantee Avenue West, Bradenton, FL 34205 | Jul. 3, 2015 | 120153
Monroe (FEMA Docket No.: B-1522) | City of Key West (15-04-1481P) | The Honorable Craig Cates, Mayor, City of Key West, 3126 Flagler Avenue, Key West, FL 33040 | Planning Department, 605A Simonton Street, Key West, FL 33040 | Aug. 24, 2015 | 120168
Monroe (FEMA Docket No.: B-1522) | Unincorporated areas of Monroe County (15-04-2332P) | The Honorable Danny Kolhage, Mayor, Monroe County, 1100 Simonton Street, Key West, FL 33040 | Department of Planning and Environmental Resources, 2798 Overseas Highway, Marathon FL 33050 | Aug. 24, 2015 | 125129
Monroe (FEMA Docket No.: B-1522) | Unincorporated Areas of Monroe County (15-04-2377P) | The Honorable Danny Kolhage, Mayor, Monroe County, 1100 Simonton Street, Key West, FL 33040 | Department of Planning and Environmental Resources, 2798 Overseas Highway, Marathon FL 33050 | Aug. 24, 2015 | 125129
Monroe (FEMA Docket No.: B-1522) | Unincorporated areas of Monroe County (15-04-2859P) | The Honorable Danny Kolhage, Mayor, Monroe County, 1100 Simonton Street, Key West, FL 33040 | Department of Planning and Environmental Resources, 2798 Overseas Highway, Marathon FL 33050 | Aug. 24, 2015 | 125129
Orange (FEMA Docket No.: B-1522) | City of Orlando (15-04-1669P) | The Honorable Buddy Dyer, Mayor, City of Orlando, City Hall, 400 South Orange Avenue, Orlando, FL 32802 | City Hall, 400 South Orange Avenue, Orlando, FL 32802 | Aug. 24, 2015 | 120186
Orange (FEMA Docket No.: B-1522) | City of Orlando (15-04-4657X) | The Honorable Buddy Dyer, Mayor, City of Orlando, City Hall, 400 South Orange Avenue, Orlando, FL 32802 | City Hall, 400 South Orange Avenue, Orlando, FL 32802 | Aug. 24, 2015 | 120186
St. Johns (FEMA Docket No.: B-1522) | Unincorporated areas of St. Johns County (15-04-2346P) | The Honorable Rachael L. Bennett, Chair, St. Johns County Board of Commissioners, 500 San Sebastian View, St. Augustine, FL 32084 | St. Johns County, Administration Building, 4040 Lewis Speedway, St. Augustine, FL 32084 | Aug. 25, 2015 | 125147
Maryland: Frederick (FEMA Docket No.: B-1526) | Unincorporated areas of Frederick County (15-03-0484P) | The Honorable Jan H. Gardner, Frederick County Executive, 12 East Church Street, Frederick, MD 21701 | Public Works Department, 355 Montevue Lane, Suite 200, Frederick, MD 21702 | Aug. 31, 2015 | 240027
New Mexico: Eddy (FEMA Docket No.: B-1526) | City of Carlsbad (14-06-4548P) | The Honorable Dale W. Janway, Mayor, City of Carlsbad, P.O. Box 1569, Carlsbad, NM 88221 | City Hall, 101 North Halagueno Street, Carlsbad, NM 88220 | Aug. 28, 2015 | 350017
North Carolina:
Guilford (FEMA Docket No.: B-1448) | City of Greensboro (14-04-2255P) | The Honorable Nancy Vaughan, Mayor, City of Greensboro, P.O. Box 3136, Greensboro, NC 27402 | Central Library, 219 North Church Street, Greensboro, NC 27401 | Jan. 9, 2015 | 375351
Pitt (FEMA Docket No.: B-1526) | City of Greenville (15-04-3563P) | The Honorable Allen M. Thomas, Mayor, City of Greenville, 200 West 5th Street, Greenville, NC 27834 | City Hall, 200 West 5th Street, Greenville, NC 27834 | Aug. 26, 2015 | 370191
Pitt (FEMA Docket No.: B-1526) | Unincorporated areas of Pitt County (15-04-3563P) | The Honorable Glen Webb, Chairman, Pitt County Board of Commissioners, 1717 West 5th Street, Greenville, NC 27834 | Pitt County Planning Department, 1717 West 5th Street, Greenville, NC 27834 | Aug. 26, 2015 | 370372
Wayne (FEMA Docket No.: B-1526) | City of Goldsboro (15-04-2620P) | The Honorable Alfonzo King, Mayor, City of Goldsboro, P.O. Drawer A, Goldsboro, NC 27533 | Engineering Department, 200 North Center Street, Goldsboro, NC 27530 | Aug. 25, 2015 | 370255
Pennsylvania: Luzerne (FEMA Docket No.: B-1516) | Borough of Dallas (14-03-0189P) | The Honorable Lee W. Eckert, President, Borough of Dallas Council, 25 Main Street, Dallas, PA 18612 | Administration Building, 25 Main Street, Dallas, PA 18612 | Aug. 20, 2015 | 421825
South Carolina: Oconee (FEMA Docket No.: B-1522) | Unincorporated areas of Oconee County (15-04-2201P) | The Honorable Wayne McCall, Chairman, Oconee County Council, 260 Mountain Springs Road, West Union, SC 29696 | Oconee County Administrator, 415 South Pine Street, Walhalla, SC 29691 | Aug. 21, 2015 | 450157
Texas:
Bexar (FEMA Docket No.: B-1516) | City of San Antonio (15-06-1148P) | The Honorable Ivy R. Taylor, Mayor, City of San Antonio, P.O. Box 839966, San Antonio, TX 78283 | Transportation and Capital Improvements Department, Storm Water Division, 1901 South Alamo Street, 2nd Floor, San Antonio, TX 78283 | Aug. 19, 2015 | 480045
Brazoria (FEMA Docket No.: B-1516) | City of Pearland (14-06-3203P) | The Honorable Tom Reid, Mayor, City of Pearland, 3519 Liberty Drive, Pearland, TX 77581 | City Hall Annex, 3523 Liberty Drive, Pearland, TX 77581 | Jul. 31, 2015 | 480077
Dallas (FEMA Docket No.: B-1522) | City of Carrollton (15-06-1351P) | The Honorable Leonard Martin, Manager, City of Carrollton, 1945 East Jackson Road, Carrollton, TX 75006 | Engineering Department, 1945 East Jackson Road, Carrollton, TX 75006 | Aug. 24, 2015 | 480167
Denton (FEMA Docket No.: B-1516) | City of Highland Village (14-06-4109P) | The Honorable Charlotte Wilcox, Mayor, City of Highland Village, 1000 Highland Village Road, Highland Village, TX 75077 | City Hall, 1000 Highland Village Road, Highland Village, TX 75077 | Aug. 6, 2015 | 481105
Harris (FEMA Docket No.: B-1522) | Unincorporated areas of Harris County (15-06-0175P) | The Honorable Edward M. Emmett, Harris County Judge, 1001 Preston Street, Suite 911, Houston, TX 77002 | Harris County Permit Office, 10555 Northwest Freeway, Suite 120, Houston, TX 77092 | Aug. 26, 2015 | 480287
Hays (FEMA Docket No.: B-1516) | City of San Marcos (14-06-1023P) | The Honorable Daniel Guerrero, Mayor, City of San Marcos, 630 East Hopkins Street, San Marcos, TX 78666 | Permit Center, 630 East Hopkins Street, San Marcos, TX 78666 | Aug. 5, 2015 | 485505
Tarrant (FEMA Docket No.: B-1522) | City of Fort Worth (14-06-3506P) | The Honorable Betsy Price, Mayor, City of Fort Worth, 1000 Throckmorton Street, Fort Worth, TX 76102 | City Hall, 1000 Throckmorton Street, Fort Worth, TX 76102 | Aug. 3, 2015 | 480596
Tarrant (FEMA Docket No.: B-1526) | City of North Richland Hills (14-06-2312P) | The Honorable Oscar Trevino, Jr., P.E., Mayor, City of North Richland Hills, 7301 Northeast Loop 820, North Richland Hills, TX, 76180 | City Hall, 7301 Northeast Loop 820, North Richland Hills, TX 76180 | Aug. 5, 2015 | 480607
Travis (FEMA Docket No.: B-1526) | City of Pflugerville (14-06-4534P) | The Honorable Brandon Wade, Manager, City of Pflugerville, P.O. Box 589, Pflugerville, TX 78691 | Planning Department, 201-B East Pecan Street, Pflugerville, TX 78691 | Aug. 27, 2015 | 481028
Walker (FEMA Docket No.: B-1522) | City of Huntsville (14-06-3819P) | The Honorable Mac Woodward, Mayor, City of Huntsville, 1212 Avenue M, Huntsville, TX 77340 | Engineering Department, 448 State Highway 75 North, Huntsville, TX 77340 | Aug. 27, 2015 | 480639
Utah:
Salt Lake (FEMA Docket No.: B-1522) | City of West Jordan (14-08-1329P) | The Honorable Kim V. Rolfe, Mayor, City of West Jordan, 8000 South Redwood Road, West Jordan, UT 84088 | City Hall, 8000 South Redwood Road, West Jordan, UT 84088 | Aug. 24, 2015 | 490108
Weber (FEMA Docket No.: B-1522) | City of North Ogden (14-08-1297P) | The Honorable Brent Taylor, Mayor, City of North Ogden, 505 East 2600 North, North Ogden, UT 84414 | City Hall, 505 East 2600 North, North Ogden, UT 84414 | Aug. 24, 2015 | 490214
Weber (FEMA Docket No.: B-1522) | Unincorporated areas of Weber County (14-08-1297P) | The Honorable Kerry Gibson, Chairman, Weber County Commission, 2380 Washington Boulevard, Suite 360, Ogden, UT 84401 | Weber County Government Building, 2380 Washington Boulevard, Ogden, UT 84401 | Aug. 24, 2015 | 490187
Virginia: Fauquier (FEMA Docket No.: B-1516) | Unincorporated areas of Fauquier County (14-03-2615P) | Mr. Paul McCulla, Fauquier County Administrator, 10 Hotel Street, Suite 204, Warrenton, VA 20186 | Fauquier County Zoning and Development Services Department, 29 Ashby Street, Suite 310, Warrenton, VA 20186 | Jul 30, 2015 | 510055

[FR Doc. 2015-27472 Filed 10-27-15; 8:45 am]

BILLING CODE 9110-12-P